COMMITTEE FOR PURCHASE FROM PEOPLE WHO ARE BLIND OR SEVERELY DISABLED

Procurement List: Addition and Deletions

AGENCY: Committee for Purchase From People Who Are Blind or Severely Disabled.

ACTION: Addition to and deletions from Procurement List.

SUMMARY: This action adds to the Procurement List a product to be furnished by nonprofit agencies employing persons who are blind or have other severe disabilities, and deletes from the Procurement List products and services previously furnished by such agencies.

DATES: Effective Date: 6/15/2009.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail: CMTEFedReg@AbilityOne.gov.

SUPPLEMENTARY INFORMATION:

Additions

On 3/20/2009, the Committee for Purchase From People Who Are Blind or Severely Disabled published notice (74 FR No. 53, pgs. 11905-11906) of proposed addition to the Procurement List.

After consideration of the material presented to it concerning capability of qualified nonprofit agencies to provide the product and impact of the addition on the current or most recent contractors, the Committee has determined that the product listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the product to the Government.

2. The action will result in authorizing small entities to furnish the product to the Government.

3. There are no known regulatory alternatives which would accomplish the objectives of the Javits-Wagner-O'Day Act (41 U.S.C. 46-48c) in connection with the product proposed for addition to the Procurement List.

End of Certification

Accordingly, the following product is added to the Procurement List:

Product

NSN: 7520-01-441-9130—Kit, Fingerprint

NPA: The Arbor School, Houston, TX

Contracting Activity: Federal Acquisition Service, GSA/FSS OFC SUP Ctr—Office Equipment, New York, NY

Coverage: B-List for the broad Government requirement as aggregated by the General Services Administration.

Deletions

On 3/20/2009 and 3/27/2009, the Committee for Purchase From People Who Are Blind or Severely Disabled published notices (74 FR No. 53, pgs. 11905-11907 and 74 FR No. 58, pgs. 13413-13414, respectively) of proposed deletions from the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

NSN: 7520-01-557-3151—Antimicrobial, Black Ink

NSN: 7520-01-557-3154—Antimicrobial, Blue Ink

NPA: Alphapointe Association for the Blind, Kansas City, MO

Contracting Activity: GSA/FSS OFC SUP Ctr—Paper Products, New York, NY

NSN: 7045-01-483-7833—CD Access File

NPA: Wiscraft Inc.—Wisconsin Enterprises for the Blind, Milwaukee, WI

Contracting Activity: GSA/FSS OFC SUP Ctr—Paper Products, New York, NY

NSN: 7510-01-537-7841—DAYMAX, IE/LE Month at a View, 2008, 3-hole

NSN: 7510-01-537-7847—DAYMAX, IE/LE Week at a View, 2008, 3-hole

NSN: 7510-01-537-7850—DAYMAX, IE/LE Day at a View, 2008, 3-hole

NSN: 7510-01-537-7853—DAYMAX, GLE Day at a View, 2008, 7-hole

NSN: 7510-01-537-7856—DAYMAX, GLE Month at a View, 2008, 7-hole

NSN: 7510-01-537-7859—DAYMAX, GLE Week at a View, 2008, 7-hole

NSN: 7510-01-537-7863—DAYMAX, Tabbed Monthly, 2008, 3-hole

NSN: 7510-01-537-7868—DAYMAX, Tabbed Monthly, 2008, 7-hole

NSN: 7530-01-537-7837—DAYMAX System, LE, 2008, Black

NSN: 7530-01-537-7837L—DAYMAX System, LE, 2008, Black w/Logo

NSN: 7530-01-537-7838—DAYMAX System, IE, 2008, Black

NSN: 7530-01-537-7838L—DAYMAX System, IE, 2008, Black w/Logo

NSN: 7530-01-537-7839—DAYMAX System, LE, 2008, Navy

NSN: 7530-01-537-7839L—DAYMAX System, LE, 2008, Navy w/Logo

NSN: 7530-01-537-7840—DAYMAX System, LE, 2008, Burgundy

NSN: 7530-01-537-7840L—DAYMAX System, LE, 2008, Burgundy w/Logo

NSN: 7530-01-537-7842—DAYMAX System, Desert, Camouflage Planner, 2008

NSN: 7530-01-537-7842L—DAYMAX System, Desert, Camouflage Planner, 2008 w/Logo

NSN: 7530-01-537-7843—DAYMAX System, IE, 2008, Navy

NSN: 7530-01-537-7843L—DAYMAX System, IE, 2008, Navy w/Logo

NSN: 7530-01-537-7844—DAYMAX System, GLE, 2008, Black

NSN: 7530-01-537-7844L—DAYMAX System, GLE, 2008, Black w/Logo

NSN: 7530-01-537-7845—DAYMAX System, JR Version, 2008, Black

NSN: 7530-01-537-7845L—DAYMAX System, JR Version, 2008, Black w/Logo

NSN: 7530-01-537-7846—DAYMAX System, IE, 2008, Burgundy

NSN: 7530-01-537-7846L—DAYMAX System, IE, 2008, Burgundy w/Logo

NSN: 7530-01-537-7848—DAYMAX System, GLE, 2008, Navy

NSN: 7530-01-537-7848L—DAYMAX System, GLE, 2008, Navy w/Logo

NSN: 7530-01-537-7849—DAYMAX System, JR Version, 2008, Navy

NSN: 7530-01-537-7849L—DAYMAX System, JR Version, 2008, Navy w/Logo

NSN: 7530-01-537-7852—DAYMAX System, GLE, 2008, Burgundy

NSN: 7530-01-537-7852L—DAYMAX System, GLE, 2008, Burgundy w/Logo

NSN: 7530-01-537-7854—DAYMAX System, JR Version, 2008, Burgundy

NSN: 7530-01-537-7854L—DAYMAX System, JR Version, 2008, Burgundy w/Logo

NSN: 7530-01-537-7857—DAYMAX System, DOD Planner, 2008

NSN: 7530-01-537-7857L—DAYMAX System, DOD Planner, 2008 w/Logo

NSN: 7530-01-537-7864—DAYMAX System, Woodland, Camouflage Planner, 2008

NSN: 7530-01-537-7864L—DAYMAX System, Woodland Camouflage Planner, 2008 w/Logo

NPA: The Easter Seal Society of Western Pennsylvania, Pittsburgh, PA

Contracting Activity: GSA/FSS OFC SUP Ctr—Paper Products, New York, NY

Services

Service Type/Location: Administrative Services

GSA, Las Vegas—Nevada Field Office: 600 Las Vegas Boulevard, South, Las Vegas, NV

NPA: Opportunity Village Association for Retarded Citizens, Las Vegas, NV

Contracting Activity: Bureau of Immigration and Customs Enforcement, FPS West Consolidated Contract Group, Denver, CO

Service Type/Location: Custodial Services

Department of Homeland Security: 6416 Sossamon Road (Williams Gateway Airport), Mesa, AZ

NPA: Goodwill Community Services, Inc., Phoenix, AZ

Contracting Activity: Bureau of Customs and Border Protection, Office of Procurement, Washington, DC

Barry S. Lineback,
Director, Business Operations.

[FR Doc. E9-11312 Filed 5-14-09; 8:45 am]

BILLING CODE 6353-01-P